DEPARTMENT OF COMMERCE

National Oceanic and Atmospheric Administration

Agency Information Collection Activities; Submission to the Office of Management and Budget (OMB) for Review and Approval; Comment Request; Observer Programs' Information That Can Be Gathered Only Through Questions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 31, 2020, (85 FR 46071) during a 60-day comment period. This notice allows for an additional 30 days for public comments.

Agency: National Oceanic and Atmospheric Administration.

Title: Observer Programs' Information That Can be Gathered Only Through Questions.

OMB Control Number: 0648-0593.

Form Number(s): None.

Type of Request: Regular submission (Extension and revision of a current information collection request).

Number of Respondents: 13,935 observed annual fishing trips.

Average Hours Per Response: Northeast Fisheries Observer Program and At-Sea Monitors, 117 minutes; North Pacific Groundfish and Halibut Observer Program and Processing Plants, 56 minutes; Alaska Marine Mammal Observer Program, 15 minutes; West Coast Groundfish Observer Program, 58 minutes; Pacific Islands Region Observer Program, 86 minutes; Southeast Shark Fishery Observer Program, 75 minutes; Southeast Pelagic Observer Program, 85 minutes; Gulf of Mexico Reef Fish and Shrimp Observer Program, 110 minutes; West Coast Region Observer Program, 62 minutes; Southeast Reef Fish Program, 75 minutes. Information will be collected for observed fishing trips and deployments to fish processing plants; therefore, there will be multiple responses for some respondents, but counted as one response per trip or plant visit.

Total Annual Burden Hours: 18,436 hours.

Needs and Uses: The information collected will be used to: (1) Monitor catch and bycatch in Federally managed fisheries; (2) monitor interactions with protected resources (e.g., marine mammals and sea turtles); (3) understand the population status and trends of fish stocks and protected species, as well as the interactions between them; (4) determine the quantity and distribution of net benefits derived from living marine resources; (5) predict the biological, ecological, and economic impacts of existing management measures and alternative proposed management measures, and (6) understand safety risk for observers.

Comprehensive catch and bycatch information is an essential component of all stock assessments and is necessary for the development of effective fisheries and protected resource management strategies. At-sea observer programs are the most reliable method of collecting bycatch information. The MSA requires implementation of annual catch limits for all federally managed fisheries. Bycatch data collected by at-sea observer programs are an essential component in the estimation of total catch because bycatch approaches or exceeds landed catch in some fisheries and is a significant part of the total catch in many other fisheries. Analysis of catch, bycatch, and fishing effort information collected by observers also supports development of and recommendations within take reduction plans, biological opinions, and fishery management plans. Observer data are also used to assess the impact of experimental fisheries, monitor the effectiveness of bycatch reduction technologies, and enforce fisheries regulations.

In general, analysis of catch and bycatch, cost, revenue, and employment information for fishing vessels will assist analysts in estimating:

1. Environmental impacts of proposed regulations

2. Net economic value to the nation

3. Economic health of the fisher

4. Effects on business efficiency

5. Community economic impacts

6. Firms' economic dependence on the fishery

7. Economic impacts of proposed regulations, including area closures, gear restrictions, and catch or bycatch restrictions

8. Distribution of economic impacts from proposed regulations and, in particular, the significance of impacts on small businesses

9. Likelihood of bankruptcies

10. Effects on international competitiveness

There have been five changes since the last approval of the collection. The first is the addition of emergency health and safety questions related to the COVID-19 pandemic (covered by the June 12, 2020 emergency approval). The second is the expansion of observers to include an additional fishery. The Southeast region will begin sending observers out on Southeast reef fish fishery trips and thus needs to add this fishery to this collection. The third is a combination of two programs previously listed as separate; the Gulf of Mexico reef fish and shrimp program and grouper snapper program. The fourth is the West Coast Groundfish Observer Program (WCGOP) would like to start collecting the names of crew members within their observer logbooks. The data will be recorded on paper, scanned in, and stored according to vessel name. This information will only be accessed if there is an enforcement issue. The final change is also within the West Coast Groundfish Observer Program. They have introduced a new phone app that captains are using to declare upcoming fishing trips and NMFS is using to let them know if they have been selected for observer coverage.

Additionally, some forms have been removed from this OMB Control Number as they are completed based upon direct observation by an employee or agent of the sponsoring agency and are therefore exempt from the PRA requirements. (5 CFR 1320.3(h)(3)). A list of all forms—those requiring OMB approval and those that do not—is being submitted with the revision package.

Affected Public: Business or other for-profit organizations.

Frequency: The frequency depends on the observer program. Some programs require observers on every trip while other programs require observers at a lower frequency as assigned through a random stratified design.

Respondent's Obligation: Some questions are voluntary, others are mandatory.

Legal Authority: The Magnuson-Stevens Fishery Conservation and Management Act (MSA) provides authority to require observer coverage on a vessel or at a fish processing plant for the purpose of collecting information necessary for fishery conservation and management. Observers are also authorized to be deployed under the Endangered Species Act (ESA), and the Marine Mammal Protection Act (MMPA) to collect information on species protected under those authorities. Section 303(b)(8) of the MSA states that any fishery management plan which is prepared by any Council, or by the Secretary of Commerce (Secretary), with respect to any fishery, may require that one or more observers be carried on board a vessel of the United States engaged in fishing for species that are subject to the plan, for the purpose of collecting data necessary for the conservation and management of the fishery; Sec. 403(a) requires the Secretary to promulgate regulations for fishing vessels that carry observers; and Sec. 403(b)(1) requires the Secretary to establish programs to ensure that each observer receives adequate training in collecting and analyzing the information necessary for the conservation and management purposes. Similar authority to place observers on fishing vessels is provided by Sec. 118 of the MMPA (50 U.S.C. Part 229) and Parts 222 and 223 (U.S.C.) of the ESA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648 -0593.

Sheleen Dumas,
Department PRA Clearance Officer, Office of the Chief Information Officer, Commerce Department.

[FR Doc. 2020-27113 Filed 12-9-20; 8:45 am]

BILLING CODE 3510-22-P